DEPARTMENT OF ENERGY

Federal Energy Regulatory Commission

[Docket No. CP08-50-000]

Trunkline Gas Company, LLC; Notice of Request Under Blanket Authorization

January 14, 2008.

Take notice that on January 9, 2008, Trunkline Gas Company (Trunkline), P.O. Box 4967, Houston, Texas 77210-4967, filed in Docket No. CP08-50-000 a prior notice request pursuant to sections 157.205, 157.208 and 157.212 of the Commission's regulations under the Natural Gas Act (NGA) and Trunkline's blanket certificate issued January 10, 1983 in Docket No. CP83-84-000, for authorization to construct and operate a new interconnect with Kinder Morgan Louisiana Pipeline, LLC to receive revaporized liquefied natural gas in Jefferson Davis Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

The estimated cost of constructing the proposed facilities is $950,000.

Any questions regarding the application should be directed to Stephen T. Veach, Regulatory Affairs, Trunkline Gas Company, 5444 Westheimer Road, Houston, Texas 77056, or fax (713) 989-1158, or e-mail stephen.veach@sug.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: February 4, 2008.

Kimberly D. Bose,
Secretary.

[FR Doc. E8-961 Filed 1-18-08; 8:45 am]

BILLING CODE 6717-01-P